DEPARTMENT OF TRANSPORTATION

Pipeline and Hazardous Materials Safety Administration

49 CFR Parts 105, 106, 107, 130, 171, 172, 173, 174, 176, and 177

[Docket No. PHMSA-2011-0134 (HM-244D)]

RIN 2137-AE77

Hazardous Materials: Minor Editorial Corrections and Clarifications

AGENCY: Pipeline and Hazardous Materials Safety Administration (PHMSA), DOT.

ACTION: Final rule.

SUMMARY: This final rule corrects editorial errors, makes minor regulatory changes and, in response to requests for clarification, improves the clarity of certain provisions in the Hazardous Materials Regulations. The intended effect of this rule is to enhance the accuracy and reduce misunderstandings of the regulations. The amendments contained in this rule are non-substantive changes and do not impose new requirements.

DATES: Effective date: September 13, 2011.

FOR FURTHER INFORMATION CONTACT: Rob Benedict, Standards and Rulemaking Division, 202-366-8553, PHMSA, East Building, PHH-10, 1200 New Jersey Avenue, SE., Washington, DC 20590.

SUPPLEMENTARY INFORMATION:

I. Background

The Pipeline and Hazardous Materials Safety Administration (PHMSA) annually reviews the Hazardous Materials Regulations (HMR; 49 CFR parts 171-180) to identify typographical errors, outdated addresses or other contact information, and similar errors. In this final rule, we are correcting typographical errors, incorrect CFR references and citations, inconsistent use of terminology, misstatements of certain regulatory requirements, inadvertent omissions of information and outdated transition dates. Because these amendments do not impose new requirements, notice and public comment are unnecessary. By making these amendments effective without the customary 30-day delay following publication, the changes will appear in the next published revision of the 49 CFR.

II. Section-by-Section Review

The following is a section-by-section summary of the minor editorial corrections and clarifications made in this final rule. PHMSA's Office of Hazardous Materials Safety (OHMS) recently underwent an internal reorganization of the divisions that constitute OHMS. As a result of this reorganization, there were several structural changes and re-designations. Therefore, in addition to the minor editorial corrections and clarifications made in this final rule, we are also revising all outdated references to divisions that underwent a change in name designation. Specifically, we are revising all outdated references to the “Office of Hazardous Materials Standards” and are replacing them with “Standards and Rulemaking Division.” We are revising all outdated references to the “Office of Special Permits and Approvals” and replacing them with “Approvals and Permits Division.” And we are revising all outdated references to the “Office of Hazardous Materials Enforcement” and replacing them with “Field Operations.”

Part 105

Section 105.20

This section specifies conditions and procedures for requesting guidance and interpretations of the HMR. In this section, we are revising an outdated reference to the “Office of Hazardous Materials Standards” and are replacing it with “Standards and Rulemaking Division.” This change reflects the name change resulting from PHMSA's reorganization.

Section 105.25

This section specifies the requirement for PHMSA to make certain documents and information available to the public. In this section, we are revising an outdated reference to the “Office of Special Permits and Approvals” and replacing it with “Approvals and Permits Division.” This change reflects the name change resulting from PHMSA's reorganization.

Section 105.40

This section specifies requirements for designated agents for non-residents. In this section, we are revising an outdated reference to the “Office of Special Permits and Approvals” and replacing it with “Approvals and Permits Division.” This change reflects the name change resulting from PHMSA's reorganization.

Part 106

Section 106.95

This section specifies conditions and procedures to request a change to the regulations. In this section, we are revising an outdated reference to the “Office of Hazardous Materials Standards” and replacing it with “Standards and Rulemaking Division.” This change reflects the name change resulting from PHMSA's reorganization.

Part 107

Section 107.105

This section specifies conditions and procedures for an application for a special permit. The e-mail address for the Approvals and Permits Division in paragraph (a)(1)(iii) is no longer correct. Accordingly, we are revising this e-mail address. Also, we are adding “other ranking official” to the language in paragraph (a)(2). This language was inadvertently omitted from the final rule published on July 26, 2011 under Docket Number PHMSA-2009-0410 (HM-233B) (76 FR 44496) entitled “Revisions of Special Permits Procedures; Response to Appeals; Corrections.” This language was discussed and accepted in the preamble of that final rule, but was inadvertently omitted in the regulatory text.

Section 107.107

This section specifies conditions and procedures for an application for party status to a special permit. The e-mail address for the Approvals and Permits Division in paragraph (b)(1)(iii) is no longer correct. Accordingly, we are revising this e-mail address.

Section 107.109

This section specifies conditions and procedures for an application for a renewal of a special permit. The e-mail address for the Approvals and Permits Division in paragraph (b)(1)(iii) is no longer correct. Accordingly, we are revising this e-mail address.

Section 107.127

This section specifies conditions for the availability of documents for public inspection. In paragraph (a), we are revising an outdated reference to the “Office of Special Permits and Approvals” and replacing it with “Approvals and Permits Division.” This change reflects the name change resulting from PHMSA's reorganization.

Section 107.305

This section specifies the general requirements for investigations and inspections. In paragraph (b)(4), we are revising an outdated reference to the “Office of Hazardous Materials Enforcement” and replacing it with “Field Operations.” This change reflects the name change resulting from PHMSA's reorganization.

Section 107.608

This section specifies the general registration requirements. As part of the registration process, persons meeting the applicability requirements of § 107.601 must submit a DOT Form F 5800.2 to the Grants and Registrations Branch of the Outreach, Training and Grants Division of PHMSA. Paragraph (d) of this section provides information on how to obtain copies of DOT form F 5800.2. The branch routing symbol, phone number and the Web address for the grants and registration branch in paragraph (d) are no longer correct. Accordingly, we are revising the routing symbol, phone number and the Web address.

Section 107.616

This section details the payment procedures for the registration program. Paragraph (a) of this section provides information on how to submit payments via mail or the internet. The mailing address and the Web address for the payments in paragraph (a) are no longer correct. Accordingly, we are revising the mailing and Web addresses.

Section 107.805

On December 9, 2005, PHMSA published a final rule under Docket Number PHMSA-2005-22208 (HM-240) [70 FR 73156] entitled, “Incorporation of Statutorily Mandated Revisions to the Hazardous Materials Regulations.” This final rule revised terminology, definitions, and requirements for consistency with the Hazardous Materials Safety and Security Reauthorization Act of 2005. As part of this final rule, paragraph (f) of § 107.805 was revised and a transitional provision stating “after May 31, 2004, no person may requalify a DOT specification or special permit cylinder in accordance with § 180.209(g) of this chapter unless that person has been issued a RIN as provided in paragraph (d) of this section” was added. In this final rule, we are removing the language “after May 31, 2004” since the transition date is no longer relevant.

Part 130

Section 130.31

On June 17, 1996, the Research and Special Programs (RSPA), the predecessor agency to PHMSA, issued a final rule under Docket Numbers HM-214 and PC-1, entitled “Oil Spill Prevention and Response Plans.” This final rule adopted requirements for packaging, communication, spill response planning and response plan implementation intended to prevent and contain spills of oil during transportation. As part of this final rule, a new section, § 130.31 was added to prescribe the requirements for oil spill response plans. This section contains transition dates which are no longer valid. In this final rule, we are removing the language “After September 30, 1993” from paragraph (a) and “After February 19, 1993” from paragraph (b) since the transition dates are no longer necessary.

Part 171

Part 171.7

Paragraph (a) of § 171.7 lists materials incorporated by reference into the HMR. In paragraph (a)(3), we are correcting the mailing address for the National Fire Protection Association.

Part 171.16

This section contains the requirements for detailed hazardous materials incident reports. In paragraph (b), we are revising the mailing address, routing number and administration name.

Part 171.22

This section prescribes the authorization and conditions for use of international standards and regulations. On May 3, 2007, PHMSA issued a final rule under Docket Number PHMSA-2005-23141 (HM-215F) [72 FR 25162], entitled “Hazardous Materials: Revision and Reformatting of Requirements for the Authorization to Use International Transport Standards and Regulations.” This final rule revised and consolidated the requirements applicable to the use of authorized international standards. Among the proposals adopted in this final rule was the requirement for an international shipper, directly or through the forwarding agent at the place of entry, to provide the initial U.S. carrier with the shipper's certification required by § 172.204 of the HMR, unless the shipment is otherwise excepted from the certification requirement. This section contains a transition date for this requirement which has since expired. In this final rule, we are removing the language “After May 4, 2009” from paragraph (f)(2) since the transition date is no longer necessary.

Section 171.23

This section prescribes requirements for specific materials and packagings transported under the ICAO Technical Instructions, IMDG Code, Transport Canada TDG Regulations or the IAEA Regulations. In paragraph (a)(4)(ii), the word “density” is misspelled as “ensity.” In this rule, we are correcting this error.

Part 172

Section 172.101

This section contains the Hazardous Materials Table (HMT) and explanatory text for each of the columns in the table. In accordance with § 173.115(k)(6), when the contents of an aerosol are classified as Division 6.1, PG III or Class 8, PG II or III, the aerosol must be assigned a subsidiary hazard of Division 6.1 or Class 8, as appropriate. Currently, the entry in the HMT for aerosols with a subsidiary hazard of corrosive is specified with the proper shipping name “Aerosols, corrosive, Packing Group II or III, (each not exceeding 1 L capacity) UN1950.” This proper shipping name limits this entry to PG II and III in accordance with § 173.115(k)(6). To clarify that aerosols with a subsidiary hazard of poison may only be PG III, in this rule the entry in the HMT for Aerosols, poison is revised to read Aerosols, poison, Packing Group III (each not exceeding 1 L capacity.) We are also revising the proper shipping name for Aerosols, poison, (each not exceeding 1 L capacity) to include a reference to the PG III limitation specified in § 173.115(k)(6).

Some of the information for the entry “Argon, compressed UN1006” in the HMT, while correct, was reported under incorrect columns of the HMT. In this final rule, we are revising the entry “Argon, compressed UN1006” by correcting the information reported in columns 5, 6, 7, 8a, 8b, 8c, 9a, 9b, 10a and 10b.

The entire entry for “Helium, compressed UN 1046” is italicized in the HMT. This is incorrect. In this final rule, we are revising the entry “Helium, compressed UN1046” to read “Helium, compressed UN1046.”

For the entry, “Hydrogen iodide, anhydrous UN2197,” some of the information in the HMT, while correct, was listed under the incorrect columns. In this final rule, we are revising the entry “Hydrogen iodide, anhydrous UN2197” by correcting the information reported in columns 5, 6, 7, 8a, 8b, 8c, 9a and 9b.

For the entry, “Oxidizing solid, water-reactive, n.o.s. UN3121,” some of the information in the HMT, while correct, was listed under the incorrect columns. In this final rule, we are revising the entry “Oxidizing solid, water-reactive, n.o.s. UN3121” by correcting the information reported in columns 5, 6, 7, 8a, 8b, 8c, 9a, 9b, 10a and 10b.

The entry for “PCB, see Polychlorinated biphenyls” inadvertently included an “A” and “W” in column 1 of the HMT. Polychlorinated biphenyls are intended to be regulated by all modes. In this final rule, we are revising the entry “PCB, see Polychlorinated biphenyls” by removing the information in the first column of the HMT for this entry.

On March 9, 1999, PHMSA published a final rule under Docket Number RSPA 98-4185 (HM-215C) [64 FR 10742], entitled “Harmonization with the United Nations Recommendations, International Maritime Dangerous Goods Code, and International Civil Aviation Organization's Technical Instructions.” In the HM-215C final rule, three entries were added for “Pyrethroid pesticide, liquid toxic, 6.1, UN3352.” These entries for Pyrethroid pesticide, liquid toxic, 6.1, UN3352 inadvertently referenced packagings designed for solids. In this final rule, we are correcting the authorized packaging references in columns 8B and 8C to reference packaging authorized for liquid hazardous materials to be consistent with the liquid state of this material.

On December 29, 2006, PHMSA published a final rule under Docket Number PHMSA-2006-25476 (HM-215I) [71 FR 78596], entitled “Harmonization with the United Nations Recommendations, International Maritime Dangerous Goods Code, and International Civil Aviation Organization's Technical Instructions.” The HM-215I final rule revised the HMR to maintain alignment with international standards by incorporating various amendments, including changes to proper shipping names, hazard classes, packing groups, special provisions, packaging authorizations, air transport quantity limitations, and vessel stowage requirements. These revisions also harmonized the HMR with certain changes to the International Maritime Dangerous Goods (IMDG) Code, the International Civil Aviation Organization (ICAO) Technical Instructions, and the United Nations (UN) Recommendations. As part of the revisions in this final rule, new entries, “Paint related material, flammable, corrosive (including paint thinning or reducing compound ),” UN3469, PG I, II, and III were added to the HMT. However, these entries were never published in subsequent versions of the HMR. Therefore, in this final rule, we are correcting the HMT by adding the entries for “Paint related material, flammable, corrosive (including paint thinning or reducing compound )” UN3469, PG I, II, and III.

Section 172.301

This section prescribes the general marking requirements for non-bulk packagings. Paragraph (f) of this section contains a requirement to mark NON-ODORIZED on cylinders containing Liquid Petroleum Gases. This requirement was added to the regulations in the November 4, 2004 final rule under Docket Number RSPA-03-15327 (HM-206B) [69 FR 64462] entitled “Miscellaneous Changes to the Hazard Communication Requirements.” As part of this requirement a transition date was included. In this final rule, we are removing the language “After September 30, 2006,” from paragraph (f) since the transition date is no longer relevant.

Section 172.323

This section prescribes the requirements for marking a bulk packaging containing a regulated medical waste. Paragraph (a) of this section requires a bulk packaging to be marked with a BIOHAZARD marking conforming to 29 CFR 1910.1030(g)(1)(i). This requirement was codified into the regulations in a final rule published in the Federal Register on August 14, 2002, under Docket Number RSPA-98-3971 (HM-226) [67 FR 53118], entitled “Revision to Standards for Infectious Substances.” A transition date was included as part of this requirement. In this final rule, we are removing the language “after September 30, 2003,” from paragraph (f) since the transition date is no longer relevant.

Section 172.400a

This section provides exceptions from the labeling requirements for certain hazardous materials. In the final rule, published May 3, 2007, under Docket Number PHMSA-2005-23141 (HM-215F) [72 FR 25162], entitled “Revision and Reformatting of Requirements for the Authorization to Use International Transport Standards and Regulations,” the exceptions for labeling were revised. As part of this revision, an incorrect section was inadvertently referenced for Poison by Inhalation (PIH) materials. Specifically, § 172.400a(d) incorrectly references § 171.23(b)(11) which addresses radioactive materials, instead of PIH materials. Therefore, in this final rule, we are revising paragraph (d) to replace the reference to “§ 171.23(b)(11)” with a reference to “§ 171.23(b)(10).”

Section 172.402

This section prescribes requirements for general specifications for labels. In this final rule, we are removing language from paragraph (b) that is past its transition date. Specifically, the sentence “A subsidiary label meeting the specifications of this section which were in effect on September 30, 2001, such as, a label without the hazard class or division number displayed in the lower corner of the label, may continue to be used as a subsidiary label in domestic transportation by rail or highway until October 1, 2005, provided the color tolerances are maintained and are in accordance with the display requirements in this subchapter.” will be removed because this allowance is no longer permitted.

Section 172.432

This section prescribes requirements for INFECTIOUS SUBSTANCE label. As amended on July 20, 2011 in the final rule published under Docket Number PHMSA-2009-0151 (HM-218F) [76 FR 43510], entitled “Miscellaneous Amendments” the INFECTIOUS SUBSTANCE label specification was revised and a provision to use previously authorized labels was included. In this final rule PHMSA is removing the wording “September 30, 2011” and adding the wording “August 18, 2011” in its place.

Section 172.446

This section prescribes requirements for the CLASS 9 label. As amended on July 20, 2011 in the final rule published under Docket Number PHMSA-2009-0151 (HM-218F) [76 FR 43510], entitled “Miscellaneous Amendments” the CLASS 9 label specification was updated and a provision to use previously authorized labels was included. In this final rule PHMSA is removing the wording “September 30, 2011” and adding the wording “August 18, 2011” in its place.

Section 172.512

This section prescribes requirements for placarding freight containers and aircraft unit load devices. In this final rule, we are re-designating the subparagraphs of paragraph (b) to clarify how freight containers and unit load devices are regulated differently by air transport and other modes. This clarification separates the requirements for freight containers and unit load devices with a capacity less than 18 m³ (640 cubic feet) transported by aircraft and by all other modes into separate subparagraphs.

Section 172.519

This section prescribes requirements for general specifications for placards. In this final rule, we are removing language from paragraph (b)(4) that is past its transition date. Specifically, the sentence “Stocks of non-permanently affixed subsidiary placards in compliance with the requirements in effect on September 30, 2001, may continue to be used in domestic transportation by rail or highway until October 1, 2005, or until current stocks are depleted, whichever occurs first.” will be removed because this allowance is not longer permitted.

A final rule published May 3, 2007 under Docket Number PHMSA-2005-23141 (HM-215F) [72 FR 25162], entitled “Revision and Reformatting of Requirements for the Authorization to Use International Transport Standards and Regulations,” included an incorrect reference in § 172.519(f). In this rule, we are correcting § 172.519(f) to provide the correct reference for Poison by Inhalation (PIH) materials. With regard to PIH materials, this section incorrectly references § 171.23(b)(11) which pertains to radioactive materials instead of PIH materials. Therefore, in this final rule we are revising paragraph (f) to replace the reference to “§ 171.23(b)(11)” with a reference to “§ 171.23(b)(10).”

Section 172.704

This section prescribes the training requirements for hazardous materials employees. Paragraph (a)(4) of this section details the requirements for the security awareness training component of the training requirements. This requirement was codified into the regulations on March 25, 2003, in a final rule published in the Federal Register under Docket Number RSPA-2002-12064 (HM-232) [68 FR 14510], entitled “Security Requirements for Offerors and Transporters of Hazardous Materials.” As part of this requirement, a transition date of “No later than the date of the first scheduled recurrent training after March 25, 2003, and in no case later than March 24, 2006” was included. In this final rule, we are removing the transition language from paragraph (a)(4) since the transition dates are no longer relevant.

Section 172.800

This section prescribes the requirements for development and implementation of plans to address security risks related to the transportation of hazardous materials in commerce. In this final rule, we are removing the second occurrence of the word “as” in paragraph (b)(15) to clarify that this requirement specifically refers to the 16 radioactive materials that the NRC identified as RAM-QC.

Section 172.820

This section specifies additional security planning requirements for transportation by rail. Paragraph (b) of § 172.820 details the requirements for compiling commodity data for rail carriers transporting certain shipments of explosive, toxic by inhalation, and radioactive materials. As part of the implementation plan for this requirement, a transitional provision was included addressing how to compile commodity data. This transitional provision has expired. Therefore, in this rulemaking, we are removing the transitional language from paragraph (b).

Paragraph (f) of this section details the requirements for completing the route analysis for rail carriers transporting certain shipments of explosive, toxic by inhalation, and radioactive materials. As part of the implementation plan for this requirement, a series of transition dates were included regarding the completion of the route analysis. These transition dates have expired. Therefore, in this rulemaking, we are removing the transitional language from paragraph (f).

Part 173

Section 173.8

This section provides exceptions for non-specification packagings used in intrastate transportation. Paragraph (d)(6) of § 173.8, includes a transition date to require that tanks authorized under § 173.8 would have to meet the Part 180 requirements (except for § 180.405(g)) in the same manner as required for DOT MC 306 cargo tank motor vehicles after of July 1, 2000. In this final rule, we are removing this transition date because it has expired.

Section 173.12

This section provides exceptions for shipments of waste materials, and contains two separate paragraphs with the designation “(f).” The second appearance of paragraph (f), entitled “Household waste” is a verbatim duplicate of paragraph (g), and, thus, unnecessary. Therefore, in this rulemaking, we are removing the second paragraph (f) entitled “Household waste” and the associated text.

Section 173.22a

This section prescribes the requirements for use of packagings authorized under special permits. The Web address where copies of special permits may be obtained in paragraph (b) is no longer correct. Accordingly, we are revising this Web address in this final rule.

Section 173.24b

This section prescribes the additional general requirements for bulk packagings. In paragraph (e) of this section, the phrase “Stacking of IBCs and Large Packagings” is the title of paragraph (e) and should be italicized. In this final rule we are correcting this error by italicizing the title.

Section 173.52

This section details the classification codes and compatibility groups for explosives. Paragraph (b) of this section provides two tables that detail the classification and compatibility scheme for explosive materials. Table 2 shows the number of classification codes that are possible within each explosive division. In the first column of the last row, “1.6” was inadvertently added, leading to some confusion with the Table. For clarification, in this rule, “1.6” will be replaced by the word “Total” in the first column of the last row to ensure reader ease of use.

Section 173.57

This section prescribes the acceptance criteria for new explosives. In paragraph (c)(1) of this section we are correcting a grammatical error by adding the correct punctuation.

Section 173.58

This section prescribes the assignment of class and division for new explosives. In paragraph (b) of this section, the phrase “Division 1.5 explosive” is the title of paragraph (b) and should be italicized. In this final rule, we will correct this error by italicizing the title.

Section 173.62

This section prescribes the specific packaging requirements for explosives. In packaging instruction 130, we inadvertently removed the authorization for the use of the following packagings—aluminum boxes (4B) and natural wood, sift-proof walls boxes (4C2). In this final rule, we are revising the packaging instruction 130 found in the Table of Packing Methods in paragraph (c)(5) to reinstate aluminum boxes (4B) and natural wood, sift-proof walls boxes (4C2) as authorized packagings.

In addition, in packaging instruction 132(a) the word “contian” is spelled incorrectly. In this final rule we are correcting the spelling.

Section 173.115

This section prescribes the definition for Class 2 materials. Paragraph (a)(2) describes the flammable range of compressed gases and states that the flammability of aerosols is determined by tests specified in § 173.115(k). This reference is incorrect. The correct reference should be § 173.115 (l). Therefore, in paragraph (a)(2), the reference to “§ 173.115(k)” is corrected to read “§ 173.115(l).”

In addition, paragraph (l)(3) states “Aerosols not meeting the provisions of paragraphs (a) or (b) of this section must be classed in accordance with the appropriate tests of the UN Manual of Tests and Criteria (IBR, see § 171.7 of this subchapter).” The requirements for classification of aerosols are found in paragraph (l)(1) and (l)(2); thus, the references to paragraphs (a) and (b) are no longer accurate. Therefore, in paragraph (l)(3), the reference to paragraphs “(a) or (b)” are corrected to read “(l)(1) or (l)(2).”

Section 173.120

This section prescribes the definition for Class 3 materials. In paragraph (d), the current requirements inadvertently reference incorrect parts of the subchapter. Therefore, in this final rule, we are revising the wording “requirements of parts 170-189 of this subchapter.” to correctly read “requirements of parts 171-185 of this subchapter.”

Section 173.168

This section prescribes requirements for chemical oxygen generators including their packaging requirements. In this rulemaking, we are removing an outdated transition date specific to the implementation of the requirements for outer packaging of chemical oxygen generators to meet flame penetration and thermal resistance requirements when transported aboard an aircraft. Specifically, we are revising paragraph (d)(2) by removing the language “After September 30, 2009” since the transitional provision is no longer relevant and all chemical oxygen generators must meet flame penetration and thermal resistance requirements when transported aboard an aircraft.

Section 173.301

This section prescribes general requirements for shipment of compressed gases and other hazardous materials in cylinders, UN pressure receptacles and spherical vessels. Paragraph (f) prescribes the requirements for pressure relief devices. In this final rule, we are revising paragraph (f)(2) by removing the outdated transitional language “After December 31, 2003” since this transitional provision is no longer relevant.

In addition, in this section the last paragraph is inadvertently designated at paragraph (o). In this final rule, we are correcting paragraph (o) to read paragraph (l). The title and text of the paragraph remains unchanged.

Section 173.301a

This section prescribes additional general requirements for shipment of specification cylinders. Paragraph (d) describes the pressure requirements for filling of cylinders at 55° C (131° F). In this final rule, we are revising paragraph (d)(3) by removing the outdated transitional language “after December 31, 2003” since this transitional provision is no longer relevant.

Section 173.302

This section prescribes the requirements for the filling of cylinders with non-liquefied compressed gas. Compressed oxygen and oxidizing gas transported by aircraft are required to be placed in outer packagings that meet flame penetration and thermal resistance requirements when transported aboard an aircraft. In this rulemaking, we are removing all references to outdated transitional dates specific to the implementation of the requirements for the outer packaging containing a chemical oxygen generator. Specifically, we are revising paragraphs (f)(3)(ii) and (f)(4) by removing the language “After September 30, 2009” since the transitional provision is no longer relevant.

Section 173.304

This section prescribes the requirements for the filling of cylinders with liquefied compressed gas. As described above, oxidizing gas transported by aircraft are required to be placed in outer packagings that meet flame penetration and thermal resistance requirements when transported aboard an aircraft. In this rulemaking, we are removing all references to outdated transition dates specific to the implementation of the requirements for the outer packaging containing a oxidizing gas transported by aircraft. Specifically, we are revising paragraphs (f)(3)(ii) and (f)(4) by removing the language “After September 30, 2009” since the transitional provision is no longer relevant.

Section 173.306

Section 173.306 prescribes the requirements for the shipment of limited quantities of compressed gases. Specifically, paragraph (a)(3) details the requirements for metal aerosol containers. As part of these requirements, each container must be subjected to a test performed in a hot water bath. The intention of this requirement is that the containers are placed in the hot water bath after they are filled with a nonpoisonous (other than a Division 6.1 Packing Group III material) liquid, paste or powder. PHMSA recognizes that as currently written, the requirement does not clearly state when the hot water bath must be conducted. Therefore, in this rulemaking, we are clarifying this requirement to specify that the hot water bath must be conducted after each container is filled.

Part 174

Section 174.104

This section prescribes the general requirements for car selection, preparation, inspection, and certification of rail cars containing Division 1.1 or 1.2 (explosive) materials. We are revising paragraph (f) to remove note 3, a reference to a transitional provision, which expired on July 1, 1977 and is no longer needed.

Part 176

Section 176.77

This section prescribes requirements for the stowage of barges containing hazardous materials on board barge-carrying vessels. In this rulemaking, we are removing the word “storage” in paragraph (c), and replacing it with “stowage” to maintain consistency with the other paragraphs in this section.

Section 176.137

This section prescribes the portable magazine requirements for explosives shipped by vessel. In this rulemaking, we are correcting a typographical error in paragraph (b). Specifically, the text “27 CFR part 55 subpart K” will be corrected to read “27 CFR part 555 subpart K.”

Part 177

Section 177.834

This section prescribes the general requirements loading and unloading of motor vehicles. We are revising paragraph (o)(3) to remove a reference to a transitional provision which expired on October 1, 2004 and is no longer relevant. In addition, we are removing paragraph (o)(4) because it also references to a transitional provision which expired on October 1, 2004 and is also no longer necessary.

Section 177.835

This section prescribes the requirements for shipment of Class 1 materials by ground. In paragraph (g)(3), the wording “Department.” is removed and the wording “Associate Administrator.” is added to provide more consistency throughout the HMR. In paragraph (g)(3)(ii), the wording “Institute of Makers of Explosives' Safety Library Publication No. 22” is removed and the wording “IME Standard 22” is added in its place to be consistent with other references to the same standard in the HMR.

Section 177.840

This section prescribes the general requirements for transporting Class 2 materials via highway. We are revising paragraph (a)(1) to remove a reference to a transitional provision which expired on December 31, 2003 and is no longer relevant. In addition, we are removing language in paragraph (u) because it references to a transitional provision which expired on July 1, 2001 and is also no longer needed.

Section 177.848

This section prescribes the segregation requirements of hazardous materials. In paragraph (g)(3)(vi) we are replacing the wording “Vehicle” with the wording “Transport vehicle.” This change codifies into the regulations numerous long standing letters of interpretation regarding the terminology used in paragraph (g)(3)(vi).

III. Regulatory Analyses and Notices

A. Statutory Authority

This final rule is published under authority of 49 U.S.C. 5103(b), which authorizes the Secretary of Transportation to prescribe regulations for the safe transportation, including security, of hazardous material in intrastate, interstate, and foreign commerce. The purpose of this final rule is to remove unnecessary cross references to the hazardous materials table, incorrect mailing addresses, grammatical and typographical errors, and, in response to requests for clarification, improve the clarity of certain provisions in the Hazardous Materials Regulations.

B. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). This final rule does not impose new or revised requirements for hazardous materials shippers or carriers; therefore, it is not necessary to prepare a regulatory impact analysis.

C. Executive Order 13132

This final rule has been analyzed in accordance with the principles and criteria in Executive Order 13132 (“Federalism”). This final rule does not adopt any regulation that: (1) Has substantial direct effects on the states, the relationship between the national government and the states, or the distribution of power and responsibilities among the various levels of government; or (2) imposes substantial direct compliance costs on state and local governments. PHMSA is not aware of any state, local, or Indian tribe requirements that would be preempted by correcting editorial errors and making minor regulatory changes. This final rule does not have sufficient federalism impacts to warrant the preparation of a federalism assessment.

D. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply, and a tribal summary impact statement is not required.

E. Regulatory Flexibility Act, Executive Order 13272, and DOT Procedures and Policies

This final rule will not have a significant economic impact on a substantial number of small entities. This rule makes minor editorial changes which will not impose any new requirements on persons subject to the HMR; thus, there are no direct or indirect adverse economic impacts for small units of government, businesses, or other organizations.

F. Executive Order 13563 Improving Regulation and Regulatory Review

Executive Order 13563 is supplemental to and reaffirms the principles, structures, and definitions governing regulatory review that were established in Executive Order 12866 Regulatory Planning and Review of September 30, 1993. In addition, Executive Order 13563 specifically requires agencies to: (1) Involve the public in the regulatory process; (2) promote simplification and harmonization through interagency coordination; (3) identify and consider regulatory approaches that reduce burden and maintain flexibility; (4) ensure the objectivity of any scientific or technological information used to support regulatory action; consider how to best promote retrospective analysis to modify, streamline, expand, or repeal existing rules that are outmoded, ineffective, insufficient, or excessively burdensome.

A complete review of the existing HMR led to the identification of various minor errors in the HMR. The errors identified have no effect on the intent or meaning of the regulations. The correction of these errors will clarify current text while maintaining the intent of the regulations affected. This final rule is designed to address those errors by making non-substantive changes to the HMR such as editorial changes, spelling corrections, removal of transitional requirements that are no longer applicable and formatting modifications. This final rule corrects these errors but does not require the application of Executive Order 13563. The final rule does however clarify the regulatory text thus improving the regulations.

G. Unfunded Mandates Reform Act of 1995

This rule does not impose unfunded mandates under the Unfunded Mandates Reform Act of 1995. It does not result in costs of $141.3 million or more to either state, local, or tribal governments, in the aggregate, or to the private sector, and is the least burdensome alternative that achieves the objectives of the rule.

H. Paperwork Reduction Act

There are no new information collection requirements in this final rule.

I. Environmental Impact Analysis

There are no environmental impacts associated with this final rule.

J. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 105

Administrative practice and procedure, Hazardous materials transportation.

49 CFR Part 106

Administrative practice and procedure, Hazardous materials transportation.

49 CFR Part 107

Administrative practice and procedure, Hazardous materials transportation, Penalties, Reporting and recordkeeping requirements.

49 CFR Part 130

Oil pollution, Packaging and containers, Reporting and recordkeeping requirements, Transportation.

49 CFR Part 171

Exports, Hazardous materials transportation, Hazardous waste, Imports, Reporting and recordkeeping requirements.

49 CFR Part 172

Education, Hazardous materials transportation, Hazardous waste, Labeling, Packaging and containers, Reporting and recordkeeping requirements.

49 CFR Part 173

Hazardous materials transportation, Packaging and containers, Radioactive materials, Reporting and recordkeeping requirements, Uranium.

49 CFR Part 174

Hazardous materials transportation, Radioactive materials, Rail carriers, Railroad safety, Reporting and recordkeeping requirements.

49 CFR Part 176

Hazardous materials transportation, Maritime carriers, Radioactive materials, Reporting and recordkeeping requirements.

49 CFR Part 177

Hazardous materials transportation, Loading and Unloading, Segregation and Separation.

In consideration of the foregoing, 49 CFR Chapter I is amended as follows:

PART 105—HAZARDOUS MATERIALS PROGRAM DEFINITONS AND GENERAL PROCEDURES

1. The authority citation for part 105 continues to read as follows:

Authority: 49 U.S.C. 5101-5127; 49 CFR 1.53.

§ 105.20 [Amended]

2. In § 105.20, in paragraph (a)(4), the wording “Office of Hazardous Materials Standards” is removed and the wording “Standards and Rulemaking Division” is added in its place.

§ 105.25 [Amended]

3. In § 105.25, in paragraph (b)(2)(iv), the wording “Office of Hazardous Materials Special Permits and Approvals” is removed and the wording “Approvals and Permits Division” is added in its place.

§ 105.40 [Amended]

4. In § 105.40, in paragraph (d), the wording “Office of Hazardous Materials Special Permits and Approvals” is removed and the wording “Approvals and Permits Division” is added in its place.

PART 106—RULEMAKING PROCEDURES

5. The authority citation for part 106 continues to read as follows:

Authority: 49 U.S.C. 5101-5127; 49 CFR 1.53.

§ 106.95 [Amended]

6. In § 106.95, in paragraph (a), the wording “Office of Hazardous Materials Standards” is removed and the wording “Standards and Rulemaking Division” is added in its place.

PART 107—HAZARDOUS MATERIALS PROGRAM PROCEDURES

7. The authority citation for part 107 continues to read as follows:

Authority: 49 U.S.C. 5101-5128, 44701; 49 CFR 1.45 and 1.53; Pub. L. 101-410 section 4 (28 U.S.C. 2461 note), Pub. L. 104-134 section 31001.

8. In § 107.105, in paragraph (a)(1)(iii), the wording “Specialpermits@dot.gov” is removed and the wording “specialpermits@dot.gov” is added in its place, and paragraph (a)(2) is revised to read as follows.

§ 107.105 Application for Special Permit

(a) * * *

(2) The application must state the name, mailing address, physical address(es) of all known locations where the special permit would be used, e-mail address (if available), and telephone number of the applicant. If the applicant is not an individual, the application must state the company name, mailing address, physical address(es) of all known locations where the special permit would be used, e-mail address (if available), and telephone number of an individual designated as the point of contact for the applicant for all purposes related to the application, the name of the company Chief Executive Officer (CEO) or president, or ranking officer; and the Dun and Bradstreet Data Universal Numbering System (D-U-N-S) identifier.

* * * * *

§ 107.107 [Amended]

9. In § 107.107, in paragraph (b)(1)(iii), the wording “Specialpermits@dot.gov” is removed and the wording “specialpermits@dot.gov” is added in its place.

§ 107.109 [Amended]

10. In § 107.109, in paragraph (a)(1)(iii), the wording “Specialpermits@dot.gov” is removed and the wording “specialpermits@dot.gov” is added in its place.

§ 107.127 [Amended]

11. In § 107.127, in paragraph (a), the wording “Office of Hazardous Materials Special Permits and Approvals” is removed and the wording “Approvals and Permits Division” is added in its place.

§ 107.305 [Amended]

12. In § 107.305, in paragraph (b)(4), the wording “Office of Hazardous Materials Enforcement” is removed and the wording “Field Operations” is added in its place.

13. In § 107.608, paragraph (d) is revised to read as follows.

§ 107.608 General registration requirements.

* * * * *

(d) Copies of DOT Form F 5800.2 and instructions for its completion may be obtained from the Outreach, Training and Grants Division, PHH-50, U.S. Department of Transportation, Washington, DC 20590-0001, by calling 202-366-4109, or via the Internet at http://phmsa.dot.gov/hazmat/registration.

* * * * *

14. In § 107.616, paragraph (a) is revised to read as follows.

§ 107.616 General registration requirements.

(a) Each person subject to the requirements of this subpart must mail the registration statement and payment in full to the U.S. Department of Transportation, Hazardous Materials Registration, P.O. Box 530273, Atlanta, GA 30353-0273, or submit the statement and payment electronically through the Department's e-Commerce Internet site. Access to this service is provided at http://phmsa.dot.gov/hazmat/registration. A registrant required to file an amended registration statement under § 107.608(c) must mail it to the same address or submit it through the same Internet site.

* * * * *

15. In § 107.805, in paragraph (f), the last sentence is revised to read as follows.

§ 107.805 Approval of cylinder and pressure receptacle requalifiers.

* * * * *

(f) * * * No person may requalify a DOT specification/special permit cylinder in accordance with § 180.209(g) of this chapter unless that person has been issued a RIN as provided in paragraph (d) of this section.

* * * * *

PART 130—OIL SPILL PREVENTION AND RESPONSE PLANS

16. The authority citation for part 130 continues to read as follows:

Authority: 33 U.S.C 1321; 49 CFR 1.53.

§ 130.31 [Amended]

17. In § 130.31, paragraphs (a) introductory text and (b) introductory text are revised to read as follows.

§ 130.31 Response plans.

(a) No person may transport oil subject to this part unless that person has a current basic written plan that:

* * * * *

(b) No person may transport an oil subject to this part in a quantity greater than 1,000 barrels (42,000 gallons) unless that person has a current comprehensive written plan that:

* * * * *

PART 171—GENERAL INFORMATION, REGULATIONS, AND DEFINITIONS

18. The authority citation for part 171 continues to read as follows:

Authority: 49 U.S.C. 5101-5128, 44701; 49 CFR 1.45 and 1.53; Pub. L. 101-410 section 4 (28 U.S.C. 2461 note); Pub. L. 104-134 section 31001.

19. In § 171.7, in the table, in paragraph (a)(3), in the first column, the entry for “National Fire Protection Association” is revised to read as follows:.

§ 171.7 Reference material.

(a) * * *

(3) * * *

Source and name of material | 49 CFR reference
* * * * * * *
National Fire Protection Association, 1 Batterymarch Park, Quincy, MA, 02169-7471 1-617-770-3000, http://www.nfpa.org:
* * * * * * *

* * * * *

20. In § 171.16, paragraph (b)(1) is revised to read as follows:

§ 171.16 Detailed hazardous materials incident reports.

* * * * *

(b) * * *

(1) Submit a written Hazardous Materials Incident Report to the Information Systems Manager, PHH-60, Pipeline and Hazardous Materials Safety Administration, Department of Transportation, East Building, 1200 New Jersey Ave., SE., Washington, DC 20590-0001, or an electronic Hazardous Material Incident Report to the Information System Manager, PHH-60, Pipeline and Hazardous Materials Safety Administration, Department of Transportation, Washington, DC 20590-0001 at http://hazmat.dot.gov;

* * * * *

21. In § 171.22, paragraph (f)(2) is revised to read as follows:

§ 171.22 Authorization and conditions for the use of international standards and regulations.

* * * * *

(f) * * *

(2) The shipper, directly or through the forwarding agent at the place of entry, must provide the initial U.S. carrier with the shipper's certification required by § 172.204 of this subchapter, unless the shipment is otherwise excepted from the certification requirement. Except for shipments for which the certification requirement does not apply, a carrier may not accept a hazardous material for transportation unless provided a shipper's certification.

* * * * *

22. In § 171.23, paragraph (a)(4)(ii) is revised to read as follows:

§ 171.23 Requirements for specific materials and packagings transported under the ICAO Technical Instructions, IMDG Code, Transport Canada TDG Regulations, or the IAEA Regulations.

* * * * *

(a) * * *

(4) * * *

(ii) In addition to other requirements of this subchapter, the maximum filling density, service pressure, and pressure relief drive for each cylinder conform to the requirements of this part for the gas involved; and

* * * * *

PART 172—HAZARDOUS MATERIALS TABLE, SPECIAL PROVISIONS, HAZARDOUS MATERIALS COMMUNICATIONS, EMERGENCY RESPONSE INFORMATION, TRAINING REQUIREMENTS, AND SECURITY PLANS

23. The authority citation for part 172 continues to read as follows:

Authority: 49 U.S.C. 5101-5128; 44701, 49 CFR 1.53.

24. In § 172.101, in the Hazardous Materials Table, the following entries under “[REVISE]” are revised and the entry under “[ADD]” is added to read as follows:

§ 172.101 Purpose and use of hazardous materials table.

* * * * *

§ 172.101—HAZARDOUS MATERIALS TABLE
Symbols | Hazardous mate- rials descriptions and proper ship- ping names | Hazard class or division | Identification numbers | PG | Label Codes | Special provisions (§ 172.102) | (8) Packaging (§ 173.***): Exceptions | (8) Packaging (§ 173.***): Non-bulk | (8) Packaging (§ 173.***): Bulk | (9) Quantity limitations (see §§ 173.27 and 175.75): Passenger aircraft/rail | (9) Quantity limitations (see §§ 173.27 and 175.75): Cargo air- craft only | (10) Vessel stowage: Location | (10) Vessel stowage: Other
(1) | (2) | (3) | (4) | (5) | (6) | (7) | (8A) | (8B) | (8C) | (9A) | (9B) | (10A) | (10B)
| [REVISE]
* * * * * * *
| Aerosols, poison, Packing Group III (each not exceeding 1 L capacity) | 2.2 | UN1950 |  | 2.2, 6.1 |  | 306 | None | None | Forbidden | Forbidden | A | 48, 87, 126
* * * * * * *
| Argon, compressed | 2.2 | UN1006 |  | 2.2 |  | 306, 307 | 302 | 314, 315 | 75 kg | 150 kg | A |
* * * * * * *
| Helium, compressed | 2.2 | UN1046 |  | 2.2 |  | 306 | 302 | 302, 314 | 75 kg | 150 kg | A | 85
* * * * * * *
| Hydrogen iodide, anhydrous | 2.3 | UN2197 |  | 2.3, 8 | 3, B14, N86, N89 | None | 304 | 314, 315 | Forbidden | Forbidden | D | 40
* * * * * * *
G | Oxidizing solid, water reactive, n.o.s. | 5.1 | UN3121 |  | 5.1, 4.3 | 62 | None | 214 | 214 | Forbidden | Forbidden |  |
* * * * * * *
| PCB, see Polychlorinated biphenyls
* * * * * * *
| Pyrethroid pesticide, liquid toxic | 6.1 | UN3352 | I | 6.1 | T14, TP2, TP13, TP27 | None | 201 | 243 | 1 L | 30 L | B | 40
* * * * * * *
|  |  |  | II | 6.1 | IB2, T11, TP2, TP27 | 153 | 202 | 243 | 5L | 60L | B | 40
|  |  |  | III | 6.1 | IB3, T7, TP2, TP28 | 153 | 203 | 241 | 60L | 220L | A | 40
* * * * * * *
| [ADD]:
* * * * * * *
| Paint related material, flammable, corrosive (including paint thinning or reducing compound) | 3 | UN3469 | I | 3, 8 | T11, TP2, TP27 | None | 201 | 243 | 0.5 L | 2.5 L | E | 40
* * * * * * *

25. In § 172.301, paragraph (f) is revised to read as follows:

§ 172.301 General marking requirements for non-bulk packagings.

* * * * *

(f) NON-ODORIZED marking on cylinders containing LPG. No person may offer for transportation or transport a specification cylinder, except a Specification 2P or 2Q container or a Specification 39 cylinder, that contains an unodorized Liquefied petroleum gas (LPG) unless it is legibly marked NON-ODORIZED or NOT ODORIZED in letters not less than 6.3 mm (0.25 inches) in height near the marked proper shipping name required by paragraph (a) of this section.

26. In § 172.323, paragraph (a) introductory text is revised to read as follows:

§ 172.323 Infectious substances.

(a) In addition to other requirements of this subpart, a bulk packaging containing a regulated medical waste, as defined in § 173.134(a)(5) of this subchapter, must be marked with a BIOHAZARD marking conforming to 29 CFR 1910.1030(g)(1)(i)—

* * * * *

27. In § 172.400a, paragraph (d) is revised to read as follows:

§ 172.400a Exceptions from labeling.

* * * * *

(d) A package containing a material poisonous by inhalation (see § 171.8 of this subchapter) in a closed transport vehicle or freight container may be excepted from the POISON INHALATION HAZARD or POISON GAS label or placard, under the conditions set forth in § 171.23(b)(10) of this subchapter.

28. In § 172.402, paragraph (b) is revised to read as follows:

§ 172.402 Additional labeling requirements.

* * * * *

(b) Display of hazard class on labels. The appropriate hazard class or division number must be displayed in the lower corner of a primary hazard label and a subsidiary hazard label.

* * * * *

§ 172.432 [Amended]

29. In § 172.432, in paragraph (c) the wording “September 30, 2011” is removed and the wording “August 18, 2011” is added in its place.

§ 172.446 [Amended]

30. In § 172.446, in paragraph (c) the wording “September 30, 2011” is removed and the wording “August 18, 2011” is added in its place.

31. In § 172.512, paragraph (b) is revised to read as follows:

§ 172.512 Freight containers and aircraft unit load devices.

* * * * *

(b) Capacity less than 18 m 3 (640 cubic feet). (1) Each person who offers for transportation by air, and each person who loads and transports by air, a hazardous material in a freight container or aircraft unit load device having a capacity of less than 18 m³ (640 cubic feet) shall affix one placard of the type specified by paragraph (a) of this section unless the freight container or aircraft unit load device:

(i) Is labeled in accordance with subpart E of this part, including § 172.406(e);

(ii) Contains radioactive materials requiring the Radioactive Yellow III label and is placarded with one Radioactive placard and is labeled in accordance with subpart E of this part, including § 172.406(e); or,

(iii) Is identified as containing a hazardous material in the manner provided in part 7, chapter 2, section 2.7, of the ICAO Technical Instructions.

(2) When hazardous materials are offered for transportation, not involving air transportation, in a freight container having a capacity of less than 640 cubic feet the freight container need not be placarded. However, if not placarded, it must be labeled in accordance with subpart E of this part.

* * * * *

32. In § 172.519, paragraph (b)(4) and the last sentence in paragraph (f) are revised to read as follows:

§ 172.519 General specifications for placards.

* * * * *

(b) * * *

(4) For a placard corresponding to the primary or subsidiary hazard class of a material, the hazard class or division number must be displayed in the lower corner of the placard. However, a permanently affixed subsidiary placard meeting the specifications of this section which were in effect on October 1, 2001, (such as, a placard without the hazard class or division number displayed in the lower corner of the placard) and which was installed prior to September 30, 2001, may continue to be used as a subsidiary placard in domestic transportation by rail or highway, provided the color tolerances are maintained and are in accordance with the display requirements in this subchapter.

* * * * *

(f) * * * However, a bulk packaging, transport vehicle, or freight container containing a material poisonous by inhalation (see § 171.8 of this subchapter) must be placarded in accordance with this subpart (see § 171.23(b)(10) of this subchapter).

* * * * *

33. In § 172.704, paragraph (a)(4) is revised to read as follows:

§ 172.704 Training requirements.

(a) * * *

(4) Security awareness training. Each hazmat employee must receive training that provides an awareness of security risks associated with hazardous materials transportation and methods designed to enhance transportation security. This training must also include a component covering how to recognize and respond to possible security threats. New hazmat employees must receive the security awareness training required by this paragraph within 90 days after employment.

* * * * *

34. In § 172.800, paragraph (b)(15) is revised to read as follows:

§ 172.800 Purpose and applicability.

* * * * *

(b) * * *

(15) International Atomic Energy Agency (IAEA) Code of Conduct Category 1 and 2 materials including Highway Route Controlled quantities as defined in 49 CFR 173.403 or known radionuclides in forms listed as RAM-QC by the Nuclear Regulatory Commission;

* * * * *

35. In § 172.820, paragraphs (b) introductory text and (f) are revised to read as follows:

§ 172.820 Additional planning requirements for transportation by rail.

* * * * *

(b) Not later than 90 days after the end of each calendar year, a rail carrier must compile commodity data for the previous calendar year for the materials listed in paragraph (a) of this section. The following stipulations apply to data collected:

* * * * *

(f) Completion of route analysis. (1) The rail transportation route analysis, alternative route analysis, and route selection process required under paragraphs (c), (d), and (e) of this section must be completed no later than the end of the calendar year following the year to which the analyses apply.

(2) The initial analysis and route selection determinations required under paragraphs (c), (d), and (e) of this section must include a comprehensive review of the entire system. Subsequent analyses and route selection determinations required under paragraphs (c), (d), and (e) of this section must include a comprehensive, system-wide review of all operational changes, infrastructure modifications, traffic adjustments, changes in the nature of high-consequence targets located along, or in proximity to, the route, and any other changes affecting the safety or security of the movements of the materials specified in paragraph (a) of this section that were implemented during the calendar year.

(3) A rail carrier need not perform a rail transportation route analysis, alternative route analysis, or route selection process for any hazardous material other than the materials specified in paragraph (a) of this section.

* * * * *

PART 173—SHIPPERS—GENERAL REQUIREMENTS FOR SHIPMENTS AND PACKAGINGS

36. The authority citation for part 173 continues to read as follows:

Authority: 49 U.S.C. 5101-5128, 44701; 49 CFR 1.45, 1.53.

37. In § 173.8, paragraph (d)(6) is revised to read as follows:

§ 173.8 Exceptions for non-specification packagings used in intrastate transportation.

* * * * *

(d) * * *

(6) For a tank authorized under paragraph (b) or (c) of this section, conform to all requirements in part 180 (except for § 180.405(g)) of this subchapter in the same manner as required for a DOT specification MC 306 cargo tank motor vehicle.

§ 173.12 [Amended]

38. In § 173.12, the second paragraph (f) immediately following paragraph (g) is removed.

§ 173.22a [Amended]

39. In § 173.22a, in paragraph (b), the Web site address “http://hazmat.dot.gov/specialpermits_index.htm” is removed and the Web site address “http://www.phmsa.dot.gov/hazmat/regs/sp-a” is added in its place.

40. In 173.24b, the heading of paragraph (e) is revised to read as follows:

§ 173.24b Additional general requirements for bulk packagings.

* * * * *

(e) Stacking of IBCs and Large Packagings. * * *

* * * * *

41. In § 173.52, in paragraph (b), table 2 is revised to read as follows:

§ 173.52 Classification codes and compatibility groups of explosives.

* * * * *

(b) * * *

Table 2—Scheme of Classification of Explosives, Combination of Hazard Division with Compatibility Group
Hazard division | Compatibility group: A | Compatibility group: B | Compatibility group: C | Compatibility group: D | Compatibility group: E | Compatibility group: F | Compatibility group: G | Compatibility group: H | Compatibility group: J | Compatibility group: K | Compatibility group: L | Compatibility group: N | Compatibility group: S | Compatibility group: A-S
1.1 | 1.1A | 1.1B | 1.1C | 1.1D | 1.1E | 1.1F | 1.1G |  | 1.1J |  | 1.1L |  |  | 9
1.2 |  | 1.2B | 1.2C | 1.2D | 1.2E | 1.2F | 1.2G | 1.2H | 1.2J | 1.2K | 1.2L |  |  | 10
1.3 |  |  | 1.3C |  |  | 1.3F | 1.3G | 1.3H | 1.3J | 1.3K | 1.3L |  |  | 7
1.4 |  | 1.4B | 1.4C | 1.4D | 1.4E | 1.4F | 1.4G |  |  |  |  |  | 1.4S | 7
1.5 |  |  |  | 1.5D |  |  |  |  |  |  |  |  |  | 1
1.6 |  |  |  |  |  |  |  |  |  |  |  | 1.6N |  | 1
Total | 1 | 3 | 4 | 4 | 3 | 4 | 4 | 2 | 3 | 2 | 3 | 1 | 1 | 35

42. In § 173.57, paragraph (c)(1) is revised to read as follows:

§ 173.57 Acceptance criteria for new explosives.

* * * * *

(c) * * *

(1) It does not have, when uniformly mixed with the absorbent material, a satisfactory antacid in a quantity sufficient to have the acid neutralizing power of an amount of magnesium carbonate equal to one percent of the nitroglycerin or other liquid explosive ingredient;

* * * * *

43. In § 173.58, the heading of paragraph (b) is revised to read as follows:

§ 173.58 Assignment of class and division for new explosives.

* * * * *

(b) Division 1.5 explosive. * * *

* * * * *

44. In § 173.62, in paragraph (c)(5), in the Table of Packing Methods, Packing Instructions 130 and 132(a) are revised to read as follows:

§ 173.62 Specific packaging requirements for explosives.

* * * * *

(c) * * *

(5) * * *

Table of Packing Methods
Packaging instruction | Inner packagings | Intermediate packagings | Outer packaging
* * * * * * *
130 | Not necessary | Not necessary | Boxes.
Particular Packaging Requirements: The following applies to UN 0006, 0009, 0010, 0015, 0016, 0018, 0019, 0034, 0035, 0038, 0039, 0048, 0056, 0137, 0138, 0168, 0169, 0171, 0181, 0182, 0183, 0186, 0221, 0238, 0243, 0244, 0245, 0246, 0254, 0280, 0281, 0286, 0287, 0297, 0299, 0300, 0301, 0303, 0321, 0328, 0329, 0344, 0345, 0346, 0347, 0362, 0363, 0370, 0412, 0424, 0425, 0434, 0435, 0436, 0437, 0438, 0451, 0459 and 0488. Large and robust explosives articles, normally intended for military use, without their means of initiation or with their means of initiation containing at least two effective protective features, may be carried unpackaged. When such articles have propelling charges or are self-propelled, their ignition systems must be protected against stimuli encountered during normal conditions of transport. A negative result in Test Series 4 on an unpackaged article indicates that the article can be considered for transport unpackaged. Such unpackaged articles may be fixed to cradles or contained in crates or other suitable handling devices |  |  | Steel (4A). Aluminum (4B). Wood natural, ordinary (4C1). Wood natural, sift-proof walls (4C2). Plywood (4D). Reconstituted wood (4F). Fiberboard (4G). Plastics, expanded (4H1). Plastics, solid (4H2). Drums. Steel, removable head (1A2). Aluminum, removable head (1B2). Plywood (1D). Fiber (1G). Plastics, removable head (1H2). Large Packagings. Steel (50A). Aluminum (50B). Metal other than steel or aluminum (50N).
|  |  | Rigid plastics (50H). Natural wood (50C). Plywood (50D). Reconstituted wood (50F). Rigid fiberboard (50G).
* * * * * * *
132(a) For articles consisting of closed metal, plastic or fiberboard casings that contain detonating explosives, or consisting of plastics-bonded detonating explosives | Not necessary | Not necessary | Boxes. steel (4A). aluminum (4B).
|  |  | wood, natural; ordinary (4C1). wood, natural, sift proof walls (4C2). plywood (4D). reconstituted wood (4F). fiberboard (4G). plastics, solid (4H2).
* * * * * * *

45. In § 173.115, paragraphs (a)(2) and (l)(3) are revised to read as follows:

§ 173.115 Class 2, Divisions 2.1, 2.2, and 2.3—Definitions.

(a) * * *

(2) Has a flammable range at 101.3 kPa (14.7 psia) with air of at least 12 percent regardless of the lower limit. Except for aerosols, the limits specified in paragraphs (a)(1) and (a)(2) of this section shall be determined at 101.3 kPa (14.7 psia) of pressure and a temperature of 20 °C (68 °F) in accordance with the ASTM E681-85, Standard Test Method for Concentration Limits of Flammability of Chemicals or other equivalent method approved by the Associate Administrator. The flammability of aerosols is determined by the tests specified in paragraph (l) of this section.

* * * * *

(l) * * *

(3) Aerosols not meeting the provisions of paragraphs (l)(1) or (1)(2) of this section must be classed in accordance with the appropriate tests of the UN Manual of Tests and Criteria (IBR, see § 171.7 of this subchapter). An aerosol which was tested in accordance with the requirements of this subchapter in effect on December 31, 2005, is not required to be retested.

* * * * *

§ 173.120 [Amended]

46. In § 173.120, in paragraph (d) the wording “requirements of parts 170-189 of this subchapter.” is removed and the wording “requirements of parts 171 through 185 of this subchapter.” is added in its place.

47. In § 173.168, paragraph (d)(2) introductory text is revised to read as follows:

§ 173.168 Chemical oxygen generators.

* * * * *

(d) * * *

(2) With its contents, is capable of meeting the following additional requirements when transported by cargo-only aircraft:

* * * * *

48. In § 173.301, paragraph (f)(2) is revised to read as follows and paragraph (o) is re-designated as paragraph (l):

§ 173.301 General requirements for shipment of compressed gases and other hazardous materials in cylinders, UN pressure receptacles and spherical pressure vessels.

* * * * *

(f) * * *

(2) A pressure relief device, when installed, must be in communication with the vapor space of a cylinder containing a Division 2.1 (flammable gas) material.

* * * * *

49. In § 173.301a, paragraph (d)(3) is revised to read as follows:

§ 173.301a Additional general requirements for shipment of specification cylinders.

* * * * *

(d) * * *

(3) The pressure at 55 °C (131 °F) of Hazard Zone A and Hazard Zone B materials may not exceed the service pressure of the cylinder. Sufficient outage must be provided so that the cylinder will not be liquid full at 55 °C (131 °F).

* * * * *

50. In § 173.302, paragraphs (f)(3)(ii) and (f)(4) are revised to read as follows:

§ 173.302 Filling of cylinders with nonliquefied (permanent) compressed gases.

* * * * *

(f) * * *

(3) * * *

(ii) Is capable of passing, as demonstrated by design testing, the Flame Penetration Resistance Test in Appendix E to part 178 of this subchapter; and

* * * * *

(4) The cylinder and the outer packaging must be capable of passing, as demonstrated by design testing, the Thermal Resistance Test specified in Appendix D to part 178 of this subchapter.

* * * * *

51. In § 173.304, paragraphs (f)(3)(ii) and (f)(4) are revised to read as follows:

§ 173.304 Filling of cylinders with liquefied compressed gases.

* * * * *

(f) * * *

(3) * * *

(ii) Is capable of passing, as demonstrated by design testing, the Flame Penetration Resistance Test in Appendix E to part 178 of this subchapter; and

* * * * *

(4) The cylinder and the outer packaging must be capable of passing, as demonstrated by design testing, the Thermal Resistance Test specified in Appendix D to part 178 of this subchapter.

* * * * *

52. In § 173.306, paragraph (a)(3)(v) is revised to read as follows:

§ 173.306 Limited quantities of compressed gases.

(a) * * *

(3) * * *

(v) Each container, after it is filled, must be subjected to a test performed in a hot water bath; the temperature of the bath and the duration of the test must be such that the internal pressure reaches that which would be reached at 55 °C (131 °F) (50 °C (122 °F) if the liquid phase does not exceed 95% of the capacity of the container at 50 °C (122 °F)). If the contents are sensitive to heat, the temperature of the bath must be set at between 20 °C (68 °F) and 30 °C (86 °F) but, in addition, one container in 2,000 must be tested at the higher temperature. No leakage or permanent deformation of a container may occur.

* * * * *

PART 174—CARRIAGE BY RAIL

53. The authority citation for part 174 continues to read as follows:

Authority: 49 U.S.C. 5101-5128; 49 CFR 1.53.

54. In § 174.104, paragraph (f) is revised to read as follows.

§ 174.104 Division 1.1 or 1.2 (explosive) materials; car selection, preparation, inspection, and certification.

* * * * *

(f) Each car certificate for use in connection with the inspection of rail cars for the carriage of Division 1.1 or 1.2 (explosive) materials shall be printed on strong tag board measuring 18 by 18 cm (7.1 by 7.1 inches) or 15 by 20 cm (5.9 by 7.9 inches). It must be duly executed in triplicate by the carrier, and by the shipper if he loads the shipments. The original must be filed by the carrier at the forwarding station in a separate file and the other two must be attached to the car, one to each outer side on a fixed placard board or as otherwise provided.

__________ Railroad

CAR CERTIFICATE

No. 1 ___ Station ______

19__ .

I hereby certify that I have this day personally examined Car Number ___ and that the car is in condition for service and complies with the FRA Freight Car Safety Standards (49 CFR part 215) and with the requirements for freight cars used to transport explosives prescribed by the DOT Hazardous Materials Regulation (49 CFR part 174).

Qualified Person Designated Under 49 CFR 215.11

No. 2 ___ Station ______

19 __ .

I have this day personally examined the above car and hereby certify that the explosives in or on this car, or in or on vehicles or in containers have been loaded and braced; that placards have been applied, according to the regulations prescribed by the Department of Transportation; and that the doors of cars so equipped fit or have been stripped so that sparks cannot enter.

Shipper or his authorized agent

Qualified Person Designated Under 49 CFR 215.11

No. 3 ___ Station ______

19 __ .

I hereby certify that I have this day personally supervised the loading of the vehicles or containers on and their securement to the above car.

Shipper or railway employee inspecting loading and securement

Note 1: A shipper must decline to use a car not in proper condition.

Note 2: All certificates, where applicable, must be signed.

PART 176—CARRIAGE BY VESSEL

55. The authority citation for part 176 is revised to read as follows:

Authority: 49 U.S.C. 5101-5128; 49 CFR 1.53.

56. In § 176.77, paragraph (c) is revised to read as follows:

§ 176.77 Stowage of barges containing hazardous materials on board barge-carrying vessels.

* * * * *

(c) A barge which contains hazardous materials for which both “on deck” and “below deck” stowage is authorized may be stowed above or below the weather deck.

57. In § 176.137, paragraph (b) is revised to read as follows:

§ 176.137 Portable magazine.

* * * * *

(b) A portable magazine which meets the requirements for a type 2 or type 3 magazine under 27 CFR part 555 subpart K may be used for the stowage of Class 1 (explosive) materials on board vessels.

* * * * *

PART 177—CARRIAGE BY PUBLIC HIGHWAY

58. The authority citation for part 177 continues to read as follows:

Authority: 49 U.S.C. 5101-5127; 49 CFR part 1.53.

59. In § 177.834, paragraph (o)(3) is revised and paragraph (o)(4) is removed to read as follows:

§ 177.834 General requirements.

* * * * *

(o) * * *

(3) An IM or UN portable tank equipped with a bottom outlet as authorized in Column (7) of the § 172.101 Table of this subchapter by assignment of a T Code in the appropriate proper shipping name entry, and that contains a liquid hazardous material of Class 3, PG I or II, or PG III with a flash point of less than 100 °F (38 °C); Division 5.1, PG I or II; or Division 6.1, PG I or II, must conform to the outlet requirements in § 178.275(d)(3) of this subchapter.

§ 177.835 [Amended]

60. In § 177.835, revise paragraphs (g)(3) introductory text and (g)(3)(ii) to read as follows:

§ 177.835 Class 1 materials

* * * * *

(g) * * *

(3) It is packed and loaded in accordance with a method approved by the Associate Administrator. One approved method requires that—

* * * * *

(ii) That both the detonators and the container or compartment meet the requirements of the IME Standard 22 (IBR, see § 171.7 of this subchapter).

* * * * *

61. In § 177.840, paragraphs (a)(1) and (u) are revised to read as follows:

§ 177.840 Class 2 (gases) materials.

(a) * * *

(1) Cylinders. Cylinders containing Class 2 gases must be securely restrained in an upright or horizontal position, loaded in racks, or packed in boxes or crates to prevent the cylinders from being shifted, overturned or ejected from the motor vehicle under normal transportation conditions. A pressure relief device, when installed, must be in communication with the vapor space of a cylinder containing a Division 2.1 (flammable gas) material.

* * * * *

(u) Unloading of chlorine cargo tank motor vehicles. Unloading of chlorine from a cargo tank motor vehicle must be performed in compliance with Section 3 of the Chlorine Institute Pamphlet 57, “Emergency Shut-off Systems for Bulk Transfer of Chlorine” (IBR, see § 171.7 of this subchapter).

§ 177.848 [Amended]

62. In § 177.848 in paragraph (g)(3)(vi) the wording “vehicle” is removed and the wording “transport vehicle” is added in its place.

Issued in Washington, DC, on September 6, 2011 under authority delegated in 49 CFR part 1.
Timothy P. Butters,
Deputy Administrator, Pipeline and Hazardous Materials Safety Administration.

[FR Doc. 2011-23167 Filed 9-12-11; 8:45 am]

BILLING CODE 4910-60-P